OFFICE OF THE UNITED STATES TRADE REPRESENTATIVE

Notice of Continuation and Request for Nominations for the Trade Advisory Committee on Africa

AGENCY: Office of the United States Trade Representative.

ACTION: Notice of renewal of the charter and request for nominations.

SUMMARY: The Office of the United States Trade Representative (USTR) expects to establish a new four-year charter term and is accepting applications from qualified individuals interested in serving as a member of the Trade Advisory Committee on Africa (TACA). The TACA is a trade advisory committee that provides general policy advice and guidance to the U.S. Trade Representative on trade policy and development matters that have a significant impact on the countries of sub-Saharan Africa.

DATES: In order to receive full consideration, applications should be received no later than three weeks from this filing. Nominations will be accepted after that date on a rolling basis as vacancies arise until the expiration of the charter term, which is four years from the date of filing.

ADDRESSES: Submissions should be sent as one PDF document to the Office of the U.S. Trade Representative, Office of Intergovernmental Affairs and Public Engagement at MBX.USTR.IAPE@USTR.eop.gov.

FOR FURTHER INFORMATION CONTACT: Jennifer Bang, Assistant U.S. Trade Representative for Intergovernmental Affairs and Public Engagement, Office of the U.S. Trade Representative, at Jennifer.D.Bang@ustr.eop.gov, and Robert Telchin, Director for African Affairs, Robert.D.Telchin@ustr.eop.gov.

SUPPLEMENTARY INFORMATION:

I. Background

Section 135(c)(1) of the Trade Act of 1974, as amended (19 U.S.C. 2155(c)(1)), authorizes the President to establish individual general trade policy advisory committees for industry, labor, agriculture, services, investment, defense, small business, and other interests, as appropriate, to provide general policy advice. The President delegated that authority to the U.S. Trade Representative in Executive Order 11846, section 4(d), issued on March 27, 1975. In addition, section 14 of the AGOA Acceleration Act of 2004, Public Law 108-274, 118 Stat. 829-830 (19 U.S.C. 3701 note) specifically acknowledges the TACA, which USTR established under these authorities. With limited statutory exceptions, the TACA is subject to the provisions of the Federal Advisory Committee Act. Pursuant to these authorities, the United States Trade Representative intends to establish a new four-year charter term for the TACA.

The TACA is a discretionary trade advisory committee established to provide general policy advice to the U.S. Trade Representative on trade policy and development matters that have a significant impact on the countries of sub-Saharan Africa. More specifically, the TACA provides general policy advice on issues that may affect the countries of sub-Saharan Africa including: (1) negotiating objectives and bargaining positions before entering into trade agreements; (2) the impact of the implementation of trade agreements; (3) matters concerning the operation of any trade agreement once entered into; and (4) other matters arising in connection with the development, implementation, and administration of the trade policy of the United States. The TACA has also traditionally advised on the implementation of the African Growth and Opportunity Act (AGOA). It also assists in maintaining ongoing discussions with sub-Saharan Africa trade and agriculture ministries and private sector organizations on issues of mutual concern, including regional and international trade concerns and World Trade Organization issues. The TACA meets as needed, at the call of the U.S. Trade Representative or their designee, or two-thirds of the TACA members, depending on various factors such as the level of activity of trade negotiations and the needs of the U.S. Trade Representative.

II. Membership

The TACA is composed of not more than 30 members who have expertise in general trade, investment and development issues and specific knowledge of United States-Africa trade and investment trends including trade under the AGOA; constraints to trade and investment (including infrastructure, energy and financing); trade facilitation measures; sanitary and phytosanitary measures and technical barriers to trade; trade capacity building; investment treaty negotiations; United States-Africa investment and private sector partnerships; and implementation of World Trade Organization agreements. Members may represent industry, organized labor, investment, agriculture, services, non-profit development organizations, academia, and small businesses.

The U.S. Trade Representative appoints TACA members for a term that will not exceed the duration of this charter. Members serve at the discretion of the U.S. Trade Representative. Individuals can be reappointed for any number of terms.

TACA members serve without either compensation or reimbursement of expenses. Members are responsible for all expenses they incur to attend meetings or otherwise participate in TACA activities.

The U.S. Trade Representative appoints TACA members to represent their sponsoring U.S. entity's interests on sub-Saharan Africa trade, and thus USTR's foremost consideration for applicants is their ability to carry out the goals of section 135(c) of the Trade Act of 1974, as amended. Other criteria include the applicant's knowledge of and expertise in international trade issues as relevant to the work of the TACA and USTR. USTR anticipates that almost all TACA members will serve in a representative capacity with a very limited number serving in an individual capacity as a subject matter expert. These members, known as special government employees or SGEs, are subject to conflict-of-interest rules and may have to complete a financial disclosure report.

III. Request for Nominations

USTR is soliciting nominations for membership of the TACA. To apply for membership, an applicant must meet the following eligibility criteria:

1. The applicant must be a U.S. citizen.

2. The applicant cannot be a full-time employee of a U.S. governmental agency.

3. If serving in an individual capacity, the applicant cannot be a federally registered lobbyist.

4. The applicant cannot be registered with the U.S. Department of Justice under the Foreign Agents Registration Act.

5. The applicant must be able to obtain and maintain a security clearance or complete a background investigation and a non-disclosure agreement.

6. For representative members, who will comprise the overwhelming majority of the TACA, the applicant must represent a U.S. organization whose members (or funders) have a demonstrated interest in issues relevant to U.S. trade with Africa or have personal experience or expertise in U.S.-sub-Saharan Africa trade.

7. For eligibility purposes, a “U.S. organization” is an organization established under the laws of the United States, that is controlled by U.S. citizens, by another U.S. organization (or organizations), or by a U.S. entity (or entities), determined based on its board of directors (or comparable governing body), membership, and funding sources, as applicable. To qualify as a U.S. organization, more than 50 percent of the board of directors (or comparable governing body) and more than 50 percent of the membership of the organization to be represented must be U.S. citizens, U.S. organizations, or U.S. entities. Additionally, at least 50 percent of the organization's annual revenue must be attributable to nongovernmental U.S. sources.

8. For members who will serve in an individual capacity, the applicant must possess subject matter expertise regarding sub-Saharan Africa trade issues.

In order to be considered for TACA membership, interested persons should submit the following in one PDF document to MBX.USTR.IAPE@USTR.eop.gov.

• Name, title, affiliation, and contact information of the individual requesting consideration.

• A sponsor letter on the organization's letterhead containing a brief description of the manner in which international trade affects the organization and why USTR should consider the applicant for membership.

• The applicant's personal resume or comprehensive biography.

• An affirmative statement that the applicant and the organization he or she represents meet all eligibility criteria.

USTR will consider applicants who meet the eligibility criteria in accordance with equal opportunity practices, based on the following factors:

• Ability to represent the sponsoring U.S. entity's or U.S. organization's interests on international trade matters.

• Knowledge of and experience in trade matters relevant to the work of the TACA and USTR.

• How they will contribute to America First trade policies that create new opportunities and higher living standards for American families, farmers, manufacturers, workers, and businesses.

IV. Public Interest Determination

Pursuant to 41 U.S.C. 102-3.60(a), to establish, renew, reestablish, or merge a q discretionary (agency discretion) advisory committee, an agency must first consult with the General Services Administration's Committee Management Secretariat (the Secretariat) and, as part of the consultation, provide a written public interest determination approved by the head of the agency to the Secretariat with a copy to the Office of Management and Budget. In addition, pursuant to 41 U.S.C. 102-3.35, an agency shall follow the same consultation process and document in writing the same determination of need before creating a subcommittee under a discretionary committee that is not made up entirely of members of a parent advisory committee.

Information on the following factors for the committee is provided to the Secretariate to demonstrate that renewing the committee is in the public interest:

1. Annual Budget

$20,000.

a. Federal Personnel on a Full-Time Equivalent (FTE) Basis

0.17.

b. Other Federal Internal Costs

Security clearance and background investigations facilitated by the DOJ for committee members that do not have a clearance. This would cost around $370 per clearance for the DOJ. We do not anticipate every committee member will need a security clearance; thus, it will be difficult to estimate the cost.

c. Proposed Payments to Members

None.

d. Proposed Number of Members

Up to 30.

e. Reimbursable Costs

None.

2. If Applicable, the Total Dollar Value of Grants Expected To Be Recommended During the Fiscal Year

None.

3. Criteria for Selecting Members To Ensure the Committee Has the Necessary Expertise and Fairly Balance Membership

USTR will consider applicants who meet all the eligibility criteria based on the following factors:

a. Ability to represent the sponsoring U.S. entity's or U.S. organization's and its subsector's interests on trade matters.

b. Knowledge of and experience in trade matters relevant to the work of the committee and USTR.

c. How they will contribute to America First trade policies that create new opportunities and higher living standards for families, farmers, manufacturers, workers, and businesses.

The U.S. Trade Representative strongly encourages diverse backgrounds and perspectives and makes recommendations for members to serve on the committee without regard to political affiliation and in accordance with equal opportunity practices. USTR strives to ensure balance in terms of sectors, expertise, and other factors relevant to USTR's needs

4. List of All Other Federal Advisory Committees of the Agency

Advisory Committee for Trade Policy and Negotiations (ACTPN), Agricultural Policy Advisory Committee (APAC) with USDA, Agricultural Technical Advisory Committees for Trade (ATAC) with USDA, Industry Trade Advisory Committees (ITAC) with DOC, Intergovernmental Policy Advisory Committee (IGPAC), Labor Advisory Committee (LAC) with DOL, Seasonal and Perishable Agricultural Products Advisory Committee with USDA, and Trade and Environment Policy Advisory Committee (TEPAC).

5. Justification That the Information or Advice Provided by the Federal Advisory Committee or Subcommittee Is Not Available From Another Federal Advisory Committee, Another Federal Government Source, or Any Other More Cost-Effective and Less Burdensome Source

The trade advisory committees are an integral link between diverse stakeholders and the U.S. Government and empowers the United States to display a united front when it negotiates trade agreements with other nations. The committee offers both consensus advice and input from knowledgeable and experienced representatives of all sectors of the U.S. economy that are affected by trade, which is not otherwise available. Other means of obtaining these vital contributions, such as other Federal advisory committees or sources, would not include the full range of views represented by the trade advisory committees.

6. If the Consultation Is a Committee Renewal, a Summary of the Previous Accomplishments of the Committee and the Reasons It Needs To Continue

Congress established the Trade Advisory Committee system through Section 135 of the Trade Act of 1974 (Trade Act), as amended (19 U.S.C. 2155) to ensure that U.S. trade policy and trade negotiating objectives adequately reflect U.S. public and private sector interests.

The trade advisory committees provide information and advice on U.S. negotiating objectives, the operation of trade agreements, and other matters arising in connection with the development, implementation, and administration of U.S. trade policy. At the conclusion of certain trade negotiations, appropriate committees must report on the effects of the proposed agreement (19 U.S.C. 2155(e)).

This committee was integral to the development of proposals related to the Agreements on Reciprocal Trade negotiations, especially with respect to trading partners in Sub-Saharan Africa. The committee members help USTR to identify market-access problems, non-tariff barriers, discriminatory foreign practices, import restrictions, currency valuation issues, and notable others trade issues that disadvantage U.S. exporters in international markets. Their advice and counsel remain imperative as USTR continues to advance the reciprocal trade negotiations.

7. Explanation of Why the Committee Is Essential to the Conduct of Agency Business

The committee includes a broad swath of representatives of industry, agriculture, small business, labor, service industries, retailers, non-federal governments, nongovernmental organizations, and consumer interests who have expertise in general trade, investment, and development issues. This committee is a crucial resource for the United States Trade Representative to hear stakeholder feedback and to build support for a robust trade agenda that promotes investment and productivity, enhances our Nation's industrial and technological advantages, defends our economic and national security, and—above all—benefits American workers, manufacturers, farmers, ranchers, entrepreneurs, and businesses.

This public interest determination documents that renewing the committee is essential to the conduct of agency business and that the information to be obtained is not already available through another advisory committee or source within the Federal Government.

Jennifer Bang,
Assistant U.S. Trade Representative for Intergovernmental Affairs and Public Engagement, Office of the United States Trade Representative.

[FR Doc. 2026-04243 Filed 3-3-26; 8:45 am]

BILLING CODE 3390-F4-P